INTERNATIONAL TRADE COMMISSION

[USITC SE-08-027]

Government in the Sunshine Act Meeting Notice

Agency Holding the Meeting: United States International Trade Commission.

Time and Date: September 12, 2008 at 11 a.m.

Place: Room 101, 500 E Street, SW., Washington, DC 20436, Telephone: (202) 205-2000.

Status: Open to the public.

Matters To Be Considered: 1. Agenda for future meetings: None

2. Minutes

3. Ratification List

4. Inv. Nos. 701-TA-458 and 731-TA-1154 (Preliminary) (Certain Kitchen Appliance Shelving and Racks from China)—briefing and vote. (The Commission is currently scheduled to transmit its determinations to the Secretary of Commerce on or before September 15, 2008; Commissioners' opinions are currently scheduled to be transmitted to the Secretary of Commerce on or before September 22, 2008.)

5. Inv. Nos. 731-TA-1124 and 1125 (Final) (Electrolytic Manganese Dioxide from Australia and China)—briefing and vote. (The Commission is currently scheduled to transmit its determinations and Commissioners' opinions to the Secretary of Commerce on or before September 22, 2008.)

6. Outstanding action jackets: None

In accordance with Commission policy, subject matter listed above, not disposed of at the scheduled meeting, may be carried over to the agenda of the following meeting.

Issued: September 2, 2008.
By order of the Commission.
William R. Bishop,
Hearings and Meetings Coordinator.

[FR Doc. E8-20665 Filed 9-5-08; 8:45 am]

BILLING CODE 7020-02-P